DEPARTMENT OF ENERGY

Federal Energy Regulatory Commission

[Docket No. CP07-56-000]

Transcontinental Gas Pipe Line Corporation; Notice of Request Under Blanket Authorization

January 8, 2006.

Take notice that on December 29, 2006, Transcontinental Gas Pipe Line Corporation (Transco), Post Office Box 1396, Houston, Texas 77251, filed in Docket No. CP07-56-000, an application pursuant to sections 157.205 and 157.216 of the Commission's Regulations under the Natural Gas Act (NGA) as amended, for permission and approval to abandon by sale to Copano Field Services/Agua Dulce, L.P. (Copano) an existing supply lateral and receipt meter stations currently owned and operated by Transco in Duval and Jim Wells Counties, Texas (Driscoll Lateral), under Transco's blanket certificate issued in Docket No. CP82-426-000, all as more fully set forth in the application which is on file with the Commission and open to the public for inspection.

Transco proposes to abandon by sale to Copano the Driscoll Lateral, which consists of 10.86 miles of 6-inch pipeline in Duval County, Texas; 22.35 miles of 8-inch pipeline located in Jim Wells County, Texas, which interconnects with Transco's mainline at milepost 89.60 in Jim Wells County, Texas; and several receipt point meter stations with electronic flow measurement and communication equipment attached to the Driscoll Lateral.

Transco states that there are currently two shippers that deliver gas into Transco's pipeline system at receipt points located on the Driscoll Lateral and that both shippers have consented in writing to the abandonment.

Any questions concerning this application may be directed to Stephen A. Hatridge, Senior Counsel, Transcontinental Gas Pipe Line Corporation, P.O. Box 1396, Houston, Texas 77251; telephone 713-215-2312 or e-mail stephen.a.hatridge@williams.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Any person or the Commission's staff may, within 45 days after issuance of the instant notice by the Commission, file pursuant to Rule 214 of the Commission's Procedural Rules (18 CFR 385.214) a motion to intervene or notice of intervention and pursuant to section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to section 7 of the Natural Gas Act.

Magalie R. Salas,
Secretary.

[FR Doc. E7-431 Filed 1-12-07; 8:45 am]

BILLING CODE 6717-01-P